DEPARTMENT OF ENERGY

Federal Energy Regulatory Commission

[Project No. 4306-035]

City of Hastings, MN; Notice of Application for Amendment of License and Soliciting Comments, Motions To Intervene, and Protests

Take notice that the following hydroelectric application has been filed with the Commission and is available for public inspection:

a. Type of Application: Amendment of License.

b. Project No.: 4306-035.

c. Date filed: May 21, 2012.

d. Applicant: City of Hastings, Minnesota.

e. Name of Project: Mississippi River Lock and Dam No. 2.

f. Location: The project is located on the Mississippi River in the City of Hastings in Dakota County, Minnesota.

g. Filed Pursuant to: Federal Power Act, 16 U.S.C. 791(a)-825(r).

h. Applicant Contacts: Mr. Thomas Montgomery, P.E., Public Works Director, City of Hastings, Minnesota, 1225 Progress Drive, Hastings, MN 55033-1955, (651) 480-6188, and email TMontgomery@ci.hastings.mn.us, and Mr. Mark Stover, Hydro Green Energy, LLC, 900 Oakmont Lane, Suite 310, Westmont, IL 60559, (877) 556-6566 x 711, and email mark@hgenergy.com.

i. FERC Contact: Kelly Houff, (202) 502-6393, and email Kelly.Houff@ferc.gov.

j. Deadline for filing comments, motions to intervene, and protests: July 9, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of the Application: The City of Hastings, Minnesota proposes to delete the two hydrokinetic turbines from the Mississippi Lock and Dam No. 2 conventional hydropower project, which were authorized to be part of the conventional project in 2008. Only one of the hydrokinetic units was deployed, and the unit has been removed and out of service since mid-2010 due to potential flood waters. All components of the unit are no longer in service and the tailrace of the conventional hydropower project has been returned to its pre-hydrokinetic unit condition.

Therefore, the licensee proposes to amend the license to delete from the license: two hydrokinetic turbines rated at 35 kW each, suspended below a 68-foot-wide, 40-foot-long floating barge tethered to the existing dam structure and anchored for stability using anchors and spuds; two synchronous alternating current (AC) generating units that sit atop the barge; a 225-ampere molded case circuit breaker along with a 480-volt, three-phase feeder connecting the hydrokinetic units to the existing power plant distribution system; and appurtenant facilities. In addition, the licensee proposes to delete articles 57 through 70 of the license, and Exhibits F-7, F-8, and G-1 of the license as they pertain to the hydrokinetic units.

l. A copy of the application is available for review at the Commission in the Public Reference Room or may be viewed on the Commission's Web site at http://www.ferc.gov using the “eLibrary” link. Enter the docket number (P-4306-035) excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

o. Agency Comments: Federal, state, and local agencies are invited to file comments on the described application. A copy of the application may be obtained by agencies directly from the applicant. If an agency does not file comments within the time specified for filing comments, it will be presumed to have no comments. One copy of an agency's comments must also be sent to the Applicant's representatives.

Dated: June 8, 2012.
Kimberly D. Bose,
Secretary.

[FR Doc. 2012-14615 Filed 6-14-12; 8:45 am]

BILLING CODE 6717-01-P